FEDERAL DEPOSIT INSURANCE CORPORATION

Notice of Change in Subject Matter of Agency Meeting

Pursuant to the provisions of subsection (e)(2) of the “Government in the Sunshine Act” (5 U.S.C. 552b(e)(2)), notice is hereby given that at its open meeting held at 2 p.m. on Thursday, October 23, 2008, the Corporation's Board of Directors determined, on motion of Vice Chairman Martin J. Gruenberg, seconded by Director Thomas J. Curry (Appointive), concurred in by Director John C. Dugan (Comptroller of the Currency), Mr. Scott M. Polakoff, acting in the place and stead of Director John M. Reich (Director, Office of Thrift Supervision), and Chairman Sheila C. Bair, that Corporation business required the addition to the agenda for consideration at the meeting, on less than seven days' notice to the public, of the following matter:

Memorandum and resolution re: Interim Rule Implementing the Temporary Liquidity Guarantee Program.

In addition, the following matter was withdrawn from the “Discussion Agenda:”

Memorandum and resolution re: Minimum Capital Ratios; Capital Adequacy Guidelines; Capital Maintenance; Capital: Treatment of Perpetual Preferred Stock Issued to the United States Treasury under the Emergency Economic Stabilization Act of 2008.

The Board further determined, by the same majority vote, that no notice earlier than October 22, 2008, of the change in the subject matter of the meeting was practicable.

Dated: October 23, 2008.
Federal Deposit Insurance Corporation.
Robert E. Feldman,
Executive Secretary.

[FR Doc. E8-25744 Filed 10-27-08; 8:45 am]

BILLING CODE 6714-01-P